DEPARTMENT OF HOMELAND SECURITY

Coast Guard

33 CFR Part 117

[Docket No. USCG-2009-0578]

Drawbridge Operation Regulations; East River, New York City, NY, Maintenance

AGENCY: Coast Guard, DHS.

ACTION: Notice of temporary deviation from regulations.

SUMMARY: The Commander, First Coast Guard District, has issued a temporary deviation from the regulation governing the operation of the Roosevelt Island Bridge across the East River, mile 6.4, at New York City, New York. Under this temporary deviation the bridge may remain in the closed position for one month to facilitate completion of ongoing bridge maintenance. Vessels that can pass under the draw without a bridge opening may do so at all times.

DATES: This deviation is effective from July 24, 2009 through August 15, 2009.

ADDRESSES: Documents mentioned in this preamble as being available in the docket are part of docket USCG-2009-0578 and are available online at http://www.regulations.gov, selecting the Advanced Docket Search option on the right side of the screen, inserting USCG-2009-0578 in the docket ID box, pressing enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, telephone (212) 668-7165, joe.m.arca@uscg.mil. If you have questions on viewing the docket, call Renee V. Wright, Program Manager, Docket Operations, telephone 202-366-9826.

SUPPLEMENTARY INFORMATION: The Roosevelt Island Bridge, across the East River, mile 3.1, at New York City, New York, has a vertical clearance in the closed position of 34 feet at mean high water and 40 feet at mean low water. The existing drawbridge operation regulations are listed at 33 CFR 117.781(c).

The East River at the bridge location is a secondary channel not normally used by the local seasonal recreational vessels, and commercial vessels that can transit around Roosevelt Island on the other side.

The owner of the bridge, New York City Department of Transportation, requested a temporary deviation to facilitate the completion of construction for a major rehabilitation of the bridge.

On March 19, 2009, we published a temporary deviation entitled “East River, New York” in the Federal Register (74 FR 11645) that allowed the Roosevelt Island Bridge to remain in the closed position from April 15, 2009 through July 14, 2009, to facilitate rehabilitation construction at the bridge.

On June 18, 2009, the bridge owner notified us that the construction authorized under the above temporary deviation would not be completed as originally scheduled on July 14, 2009, and that an additional temporary deviation would be necessary for one additional month, July 15, 2009 through August 15, 2009, in order to finish their work.

Under this temporary deviation the Roosevelt Island Bridge may remain in the closed position from July 15, 2009 through August 15, 2009. Vessels that can pass under the bridge without a bridge opening may do so at all times.

In accordance with 33 CFR 117.35(e), the bridge must return to its regular operating schedule immediately at the end of the designated time period. This deviation from the operating regulations is authorized under 33 CFR 117.35.

Dated: July 14, 2009.
Gary Kassof,
Bridge Program Manager, First Coast Guard District.

[FR Doc. E9-17749 Filed 7-23-09; 8:45 am]

BILLING CODE 4910-15-P